DEPARTMENT OF COMMERCE

National Oceanic and Atmospheric Administration

50 CFR Parts 300 and 679

[Docket No. 101027534-3546-01]

RIN 0648-BA37

Pacific Halibut Fisheries; Catch Sharing Plan for Guided Sport and Commercial Fisheries in Alaska; Extension of Comment Period

AGENCY: National Marine Fisheries Service (NMFS), National Oceanic and Atmospheric Administration (NOAA), Commerce.

ACTION: Proposed rule, extension of comment period.

SUMMARY: NMFS is extending the date by which public comments are due concerning proposed regulations to implement a catch sharing plan for the guided sport and commercial fisheries for Pacific halibut in waters of International Pacific Halibut Commission (IPHC) Regulatory Areas 2C (Southeast Alaska) and 3A (Central Gulf of Alaska). NMFS published the proposed rule on June 28, 2013, and announced that the public comment period would end on August 12, 2013. With this notice, NMFS is extending the comment period to August 26, 2013, to provide additional time for stakeholders and other members of the public to submit comments.

DATES: The public comment period for the proposed rule published at 78 FR 39122, June 28, 2013, is extended from August 12, 2013, until August 26, 2013. Comments must be received no later than August 26, 2013.

ADDRESSES: You may submit comments, identified by FDMS Docket Number NOAA-NMFS-2011-0180, by any of the following methods:

• Electronic Submission: Submit all electronic public comments via the Federal eRulemaking Portal. Go to www.regulations.gov/#!docketDetail;D=NOAA-NMFS-2011-0180, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

• Fax: Address written comments to Glenn Merrill, Assistant Regional Administrator, Sustainable Fisheries Division, Alaska Region NMFS, Attn: Ellen Sebastian. Fax comments to 907-586-7557.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the Environmental Assessment/Regulatory Impact Review/Initial Regulatory Flexibility Analysis (EA/RIR/IRFA) prepared for this action are available from http://www.regulations.gov or from the NMFS Alaska Region Web site at http://alaskafisheries.noaa.gov.

Written comments regarding the burden-hour estimates or other aspects of the collection-of-information requirements contained in this rule may be submitted to NMFS at the above address and by email to OIRA_Submission@omb.eop.gov or fax to 202-395-7285.

FOR FURTHER INFORMATION CONTACT: Julie Scheurer, 907-586-7228.

SUPPLEMENTARY INFORMATION:

Background

On June 28, 2013, NMFS published a proposed rule at 78 FR 39122, that would implement a catch sharing plan for the guided sport and commercial fisheries for Pacific halibut in waters of IPHC Regulatory Areas 2C (Southeast Alaska) and 3A (Central Gulf of Alaska). The proposed catch sharing plan will change the annual process of allocating halibut between the guided sport and commercial fisheries in Area 2C and Area 3A, establish allocations for each sector, and specify a method for setting harvest restrictions for guided sport anglers that are intended to limit harvest to the annual guided sport fishery catch limit. The proposed catch sharing plan also will authorize annual transfers of commercial halibut quota to charter halibut permit holders for harvest in the guided sport fishery.

Public Comment Extension

NMFS is extending the public comment period until August 26, 2013. NMFS received several requests to extend the comment period on the proposed rule due to overlap with the recreational halibut fishing season and the complexity of the proposed catch sharing plan. Most commenters requested a 45-day extension. We have considered these comments and conclude that a 14-day extension should allow sufficient time for the public to review and comment on the proposed rule without significantly delaying the rulemaking process.

Authority: 16 U.S.C. 1801 et seq.

Dated: July 22, 2013.
Alan D. Risenhoover,
Director, Office of Sustainable Fisheries, performing the functions and duties of the Deputy Assistant Administrator for Regulatory Programs, National Marine Fisheries Service.

[FR Doc. 2013-17905 Filed 7-24-13; 8:45 am]

BILLING CODE 3510-22-P